DEPARTMENT OF AGRICULTURE

Forest Service

Hood/Willamette Resource Advisory Committee (RAC)

AGENCY: Forest Service, USDA.

ACTION: Action of Meeting.

SUMMARY: The Hood/Willamette Resource Advisory Committee (RAC) will meet on Friday, May 26, 2006. The meeting is scheduled to begin at 11 a.m. and will conclude at approximately 4 p.m. The meeting will be held at Lane County Forest Work Camp; Alma, Oregon; (541) 935-0144. The tentative agenda includes: (1) Election of chairperson; (2) Tour of the Work Camp; (3) Report on National Forest Counties and Schools Coalition Conference; (4) Decision on overhead rate for 2007 projects; (5) Presentation of 2007 Projects; and (6) Public Forum.

The Public Forum is tentatively scheduled to begin at 2 p.m. Time allotted for individual presentations will be limited to 3-4 minutes. Written comments are encouraged, particularly if the material cannot be presented within the time limits for the Public Forum. Written comments may be submitted prior to the May 26th meeting by sending them to Designated Federal Official Donna Short at the address given below.

FOR FURTHER INFORMATION CONTACT: For more information regarding this meeting, contact Designated Federal Official Donna Short; Sweet Home Ranger District; 3225 Highway 20; Sweet Home, Oregon 97386; (541) 367-9220.

Dated: April 21, 2006.
Dallas J. Emich,
Forest Supervisor.

[FR Doc. 06-4058 Filed 4-28-06; 8:45 am]

BILLING CODE 3410-11-M